ENVIRONMENTAL PROTECTION AGENCY

[EPA-HQ-OAR-2004-0228; FRL-8710-5]

Agency Information Collection Activities; Submission to OMB for Review and Approval; Comment Request; Reporting and Recordkeeping Requirements Under the Perfluorocompound (PFC) Reduction/Climate Partnership for the Semiconductor Industry; EPA ICR No. 1823.04, OMB Control No. 2060-0382

AGENCY: Environmental Protection Agency (EPA).

ACTION: Notice.

SUMMARY: In compliance with the Paperwork Reduction Act (PRA) (44 U.S.C. 3501 et seq.), this document announces that an Information Collection Request (ICR) has been forwarded to the Office of Management and Budget (OMB) for review and approval. This is a request to reinstate a previously approved ICR. The ICR, which is abstracted below, describes the nature of the information collection and its estimated burden and cost.

DATES: Additional comments may be submitted on or before October 3, 2008.

ADDRESSES: Submit your comments, referencing Docket ID No. EPA-HQ-OAR-2004-0228, to (1) EPA online using www.regulations.gov (our preferred method), by e-mail to a-and-r-Docket@epa.gov, or by mail to: EPA Docket Center, Environmental Protection Agency, Air and Radiation Docket, Mailcode: 2822T, 1200 Pennsylvania Ave., NW., Washington, DC 20460, and (2) OMB by mail to: Office of Information and Regulatory Affairs, Office of Management and Budget (OMB), Attention: Desk Officer for EPA, 725 17th Street, NW, Washington, DC 20503.

FOR FURTHER INFORMATION CONTACT: Scott Bartos, Office of Atmospheric Programs, Climate Change Division (6207J), Environmental Protection Agency, 1200 Pennsylvania Ave., NW., Washington, DC 20460; telephone number: 202-343-9167; fax number: 202-343-2202; e-mail address: bartos.scott@epa.gov.

SUPPLEMENTARY INFORMATION: EPA has submitted the following ICR to OMB for review and approval according to the procedures prescribed in 5 CFR 1320.12. On March 11, 2008 (73 FR 12996), EPA sought comments on this ICR pursuant to 5 CFR 1320.8(d). EPA received no comments. Any additional comments on this ICR should be submitted to EPA and OMB within 30 days of this notice.

EPA has established a public docket for this ICR under Docket ID No. EPA-HQ-OAR-2004-0228, which is available for online viewing at www.regulations.gov, or in person viewing at the Air and Radiation Docket in the EPA Docket Center (EPA/DC), EPA West, Room 3334, 1301 Constitution Ave., NW., Washington, DC. The EPA/DC Public Reading Room is open from 8 a.m. to 4:30 p.m., Monday through Friday, excluding legal holidays. The telephone number for the Reading Room is 202-566-1744, and the telephone number for the Air and Radiation Docket is 202-566-1742.

Use EPA's electronic docket and comment system at www.regulations.gov, to submit or view public comments, access the index listing of the contents of the docket, and to access those documents in the docket that are available electronically. Once in the system, select “docket search,” then key in the docket ID number identified above. Please note that EPA's policy is that public comments, whether submitted electronically or in paper, will be made available for public viewing at www.regulations.gov as EPA receives them and without change, unless the comment contains copyrighted material, confidential business information (CBI), or other information whose public disclosure is restricted by statute. For further information about the electronic docket, go to www.regulations.gov.

Title: Reporting and Recordkeeping Requirements under the Perfluorocompound (PFC) Reduction/Climate Partnership for the Semiconductor Industry

ICR numbers: EPA ICR No. 1823.04, OMB Control No. 2060-0382

ICR Status: This ICR expired on March 31, 2008. An Agency may not conduct or sponsor, and a person is not required to respond to, a collection of information, unless it displays a currently valid OMB control number. The OMB control numbers for EPA's regulations in title 40 of the CFR, after appearing in the Federal Register when approved, are listed in 40 CFR part 9 and are displayed either by publication in the Federal Register or by other appropriate means, such as on the related collection instrument or form, if applicable. The display of OMB control numbers in certain EPA regulations is consolidated in 40 CFR part 9.

Abstract: The U.S. Environmental Protection Agency's (EPA's) PFC Reduction/Climate Partnership for the Semiconductor Industry is a voluntary program that promotes reduction of perfluorocompounds (PFCs). PFCs are the most potent greenhouse gases (GHG) known, with atmospheric lifetimes of up to 50,000 years. These unique chemical compounds are required during two critical semiconductor manufacturing steps: Plasma etching and CVD chamber cleaning. EPA's Partnership uses a pollution prevention approach to reduce greenhouse gas emissions and tracks progress by collecting annual PFC emissions estimates from voluntary participants. Partnership Companies have committed to reduce their PFC emissions 10 percent below their 1995 baseline level by 2010. As a Partner to the industry, EPA serves as a clearinghouse of technical information on successful strategies for reducing PFC emissions that are economically, technically, and environmentally sound. EPA also helps assess the global warming potential of potential substitute chemicals and publicly recognizes the Partner Companies' achievements.

Participation in the program begins with completion of a Memorandum of Understanding (MOU) that outlines responsibilities of the PFC Reduction/Climate Partnership. By joining the Partnership, a Company agrees to submit a Company-specific annual report, identifying an overall estimate of PFC emissions by gas, to a third party designated by the participating Companies. The MOU also specifies that the Partner Company will direct the designated third party to create a confidential data depository for the information supplied by the Partner Company. In addition, the MOU states that the Partner Company will direct the designated third party to prepare an industry-wide annual report, to be submitted to EPA, that aggregates PFC emissions estimates, and provides each Partner Company's annual emissions by gas on a “blind” or anonymous basis. The Partner Company also agrees to share with EPA and others in the semiconductor industry information about successful PFC emission reduction processes and technologies that the Partner Company considers nonconfidential. This MOU applies only to PFC emissions originating from U.S. semiconductor manufacturing sites and can be terminated by either Party 30 days after the receipt of written notice by the other Party with no penalties or continuing obligations.

Using the information provided through the Partnership, the EPA is able to (1) evaluate the overall PFC emission reductions achieved by the voluntary program, (2) develop estimates for the total U.S. semiconductor emissions, (3) identify new technologies or processes that reduce PFC emissions, and (4) serve as a technical clearing-house to provide industry with pertinent information on emissions estimation and reduction strategies. The Partnership data is a valuable resource for evaluating current and promoting future GHG emissions reductions within the semiconductor industry.

Burden Statement: The annual public reporting and recordkeeping burden for this collection of information is estimated to average 544 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: Semiconductor manufacturing companies.

Estimated Number of Respondents: 21.

Frequency of Response: Annually.

Estimated Total Annual Hour Burden: 11,426.

Estimated Total Annual Cost: $938,461, which includes $116,319 annualized capital or O&M costs and $822,142 in labor costs.

Changes in the Estimates: There is an increase of 11,426 hours in the total estimated burden currently identified in the OMB Inventory of Approved ICR Burdens, which reflect the burden for reinstating the entire program. EPA has not collected under this ICR since it expired in March 2008. There is a decrease of 1,624 hours from the last time this ICR was approved. This is because the number of respondents decreased from 24 to 21.

Dated: August 27, 2008.
Sara Hisel-McCoy,
Director, Collection Strategies Division.

[FR Doc. E8-20393 Filed 9-2-08; 8:45 am]

BILLING CODE 6560-50-P